DEPARTMENT OF THE INTERIOR

Bureau of Ocean Energy Management

[Docket No. BOEM-2012-0091]

Notice of Determination of No Competitive Interest, Offshore Maine

AGENCY: Bureau of Ocean Energy Management (BOEM), Interior.

ACTION: Notice of Determination of No Competitive Interest (DNCI) for Proposed Commercial Wind Lease Offshore Maine.

SUMMARY: This notice provides BOEM's determination that there is no competitive interest in the area requested by Statoil North America (Statoil NA) for a commercial wind lease as described in the Notice of Potential Commercial Leasing for Wind Power on the Outer Continental Shelf (OCS) Offshore Maine, Request for Interest (RFI), that BOEM published on August 10, 2012, (77 FR 47877). The RFI described Statoil NA's application for a commercial lease for a four-turbine wind energy project on the OCS off the coast of Maine, and provided an opportunity for the public to submit comments about the proposal.

DATES: Effective December 19, 2012.

FOR FURTHER INFORMATION CONTACT: Ms. Aditi Mirani, Project Coordinator, BOEM, Office of Renewable Energy Programs, 381 Elden Street, HM 1328, Herndon, Virginia 20170. (703) 787-1320.

SUPPLEMENTARY INFORMATION:

Authority

This DNCI is published pursuant to subsection 8(p)(3) of the OCS Lands Act, which was added by section 388 of the Energy Policy Act of 2005 (EPAct) (43 U.S.C. 1337(p)(3)), and the implementing regulations at 30 CFR part 585. Subsection 8(p)(3) of the OCS Lands Act requires that OCS renewable energy leases, easements, and rights-of-way be issued “on a competitive basis unless the Secretary [of the Department of the Interior] determines after public notice of a proposed lease, easement, or right-of-way (ROW) that there is no competitive interest.” The Secretary delegated the authority to make such determinations to BOEM.

Determination and Next Steps

This DNCI provides notice to the public that BOEM has determined there is no competitive interest in the proposed lease area, as no indications of competitive interest were submitted in response to the RFI.

In the RFI, BOEM also solicited public comment on site conditions and multiple uses within the proposed lease area that would be relevant to the proposed project or its impacts. In response to the RFI, BOEM received public comment submissions from eleven entities. BOEM will use the comments that it received to inform its subsequent decisions. After the publication of this DNCI, BOEM will proceed with the noncompetitive lease issuance process outlined at 30 CFR 585.231.

Map of the Area

A map of the area proposed for a commercial lease can be found at the following URL: http://www.boem.gov/Renewable-Energy-Program/State-Activities/Maine.aspx.

Dated: December 14, 2012.
Tommy P. Beaudreau,
Director, Bureau of Ocean Energy Management.

[FR Doc. 2012-30624 Filed 12-18-12; 8:45 am]

BILLING CODE 4310-MR-P